FEDERAL COMMUNICATIONS COMMISSION

47 CFR Parts 2 and 25

[ET Docket No. 97-214; FCC 02-131]

Allocation of 45-456 MHz and 459-460 MHz Bands to the Mobile Satellite Service

AGENCY: Federal Communications Commission.

ACTION: Final rule; termination of proceeding.

SUMMARY: This document terminates this proceeding and retain the existing fixed and mobile allocations. The Commission concludes that it should not move forward with these proposals prior to the 2003 World Radiocommunication Conference (“WRC-2003”).

FOR FURTHER INFORMATION CONTACT: Jamison Prime, Office of Engineering and Technology, (202) 418-7474, TTY (202) 418-2989, e-mail: jprime@fcc.gov.

SUPPLEMENTARY INFORMATION: This is a summary of the Commission's Order, ET Docket 97-214, FCC 02-131, adopted April 29, 2002, and released May 13, 2002. The full text of this document is available for inspection and copying during regular business hours in the FCC Reference Center (Room CY-A257), 445 12th Street, SW, Washington, DC 20554. The complete text of this document also may be purchased from the Commission's copy contractor, Qualex International, 445 12th Street, SW., Room, CY-B402, Washington, DC 20554. The full text may also be downloaded at: www.fcc.gov. Alternative formats are available to persons with disabilities by contacting Brian Millin at (202) 418-7426 or TTY (202) 418-7365.

Summary of Order

1. On October 14, 1997, the Commission released a Notice of Proposed Rule Making (NPRM), 62 FR 58932, October 31, 1997, in response to a Region 2 MSS allocation that was established at the 1995 World Radiocommunication Conference (“WRC-95”). The NPRM proposed allocation of the 455-456 MHz and 459-460 MHz bands on a co-primary basis to non-voice, non-geostationary MSS Earth-to-space operations (also referred to as Little LEO services), consistent with the Region 2 MSS allocation. Under the proposal, Little LEO mobile earth station (“MES”) terminals would be able to use the spectrum for Earth-to-space (“uplink”) transmissions, including service and feeder links. The Commission proposed that Little LEO operations in these bands protect incumbent stations in the fixed and mobile services that already occupy the spectrum. This proposed allocation would supplement the 4.05 megahertz of spectrum previously allocated for Little LEO services.

2. We find that with the passage of time, the NPRM and record in this proceeding has become outdated. In particular, we find that the proposals and comments therein do not adequately reflect recent developments that may have altered the needs and plans of the Little LEO community and the current views and needs of incumbents in the bands.

3. Specifically, in the recent government transfer band spectrum reallocation proceeding, we allocated the 1390-1392 MHz band to the fixed-satellite service for Little LEO feeder uplinks and the 1430-1432 MHz band for Little LEO feeder downlinks on a co-primary basis. The allocation is contingent on completion of ongoing studies and adoption of an international allocation for this spectrum. Without this allocation, feeder links would continue to have to share the same bands as service links. The new feeder link spectrum would allow Little LEO operators to more efficiently use existing service link spectrum to provide service to customers. The upcoming WRC-2003 is expected to consider whether additional service and feeder link spectrum should be allocated for the Little LEO service. The United States, in its preliminary view, supports such an allocation.

4. Any consideration at this time of the spectrum needs of Little LEOs must take into account the WRC-2003 preparations, any changes in the Little LEO industry, and current industry needs in light of our decision in the government transfer band spectrum reallocation proceeding. The record in this docket does not encompass these factors. Accordingly, we conclude that it would be premature for us to take any action with respect to Little LEO allocations in advance of WRC-2003. After WRC-03, we will evaluate any new allocations for this service that may arise. Considering Little LEO service and feeder link spectrum requirements at that time would allow us to make spectrum management decisions in a manner that best accommodates Little LEO spectrum needs, as well as the needs of incumbent operations.

5. We note that in previous cases where the record has been overtaken by events, the Commission has concluded that the public interest is best served by the termination of the proceeding. The present circumstances of this proceeding are of the same character, and we terminate it without prejudice to the substantive merits. We note that in other circumstances, the Commission has sometimes sought to refresh a stale record. We decline to do so here because we believe that any Little LEO allocation issues that remain after the Government Transfer Bands, R&O, 67 FR 6172, February 11, 2002, should be addressed in this proceeding would not accomplish this objective. We make no decision with respect to the underlying allocation proposals contained in the NPRM. To the extent that these issues are still relevant notwithstanding the passage of time, nothing precludes us from independently evaluating them in the context of a separate proceeding. Petitioners are free to file an updated petition for rulemaking if they consider the relief the requested to remain relevant to their needs. See, e.g., Petition to Authorize Co-Primary Sharing of the 450 MHz Air-to-Ground Radiotelephone Service with BETRS, MO&O at paragraph 4, DA 00-72, Memorandum Opinion and Order, 15 FCC Rcd 1859 (2000).

6. Pursuant to sections 4(i) and 4(j) of the Communications Act of 1934, as amended, 47 U.S.C 154(i) and (j), and § 1.425 of the Commission's rules, 47 CFR 1.425, the proceeding in ET Docket No. 97-214 is terminated.

Federal Communications Commission .
Marlene H. Dortch,
Secretary.

[FR Doc. 02-14272 Filed 6-6-02; 8:45 am]

BILLING CODE 6712-01-P